DEPARTMENT OF HEALTH AND HUMAN SERVICES

Centers for Disease Control and Prevention

Notice of Meeting

National Center for Health Statistics (NCHS), Data Policy and Standards Staff, announces the following meeting.

Name: ICD-9-CM Coordination and Maintenance Committee meeting.

Time and Date: 9 a.m.-5 p.m., May 17-18, 2001.

Place: The Health Care Financing Administration, Auditorium, 7500 Security Boulevard, Baltimore, Maryland. In the interest of security, the H.C.F.A. has instituted stringent procedures for entrance into the building by non-government employees. Persons without a government I.D. will need to show a photo I.D. and sign-in at the security desk upon entering the building.

Status: Open to the public, as limited by the capacity of the meeting room, which is 75 people.

Purpose: The ICD-9-CM Coordination and Maintenance (C&M) Committee will hold its first meeting of the 2001 calendar year cycle on Thursday and Friday May 17-18, 2001. The C&M meeting is a public forum for the presentation of proposed modifications to the International Classification of Diseases, Ninth-Revision, Clinical Modification.

Matters to be Discussed: Agenda items include:

Critical illness neuropathy

Ocular torticollis

Personal history of pre-term labor

Fussy infant/excessive crying of infant

Perinatal conditions

Aqueous misdirection

Disruption of operation wound

Dieulafoy lesion

Aftercare codes

Supplemental oxygen dependency

Scooter external cause code

Implementation issues on the ICD-10-Procedure Classification System (PCS) coding system. Presenters will include:

The American Health Information Management Association (AHIMA)

The American Hospital Association (AHA)

The American Medical Association (AMA)

McKesson HBOC

DRG Review, Inc.

AdvaMed

Ingenix Syndicated Content Group

Princeton Provider Group

ICD-9-CM procedure topics to be covered:

High-Dose Interleukin-2

Spinal Fusion Devices

Addenda

Contact Person for Additional Information: Amy Blum, Medical Classification Specialist, Data Policy and Standards Staff, NCHS, 6526 Belcrest Road, Room 1100, Hyattsville, Maryland 20782, telephone 301/458-4106 (diagnosis), Amy Gruber, Health Insurance Specialist, Division of Acute Care, HCFA, 7500 Security Blvd., Room C4-07-07, Baltimore, Maryland, 21244 telephone 410-786-1542 (procedures).

The Director, Management Analysis and Services Office, has been delegated the authority to sign Federal Register notices pertaining to announcements of meetings and other committee management activities, for both CDC and the Agency for Toxic Substances and Disease Registry.

Dated: April 18, 2001.
Carolyn J. Russell,
Director, Management Analysis and Services Office, Centers for Disease Control and Prevention.

[FR Doc. 01-10056 Filed 4-23-01; 8:45 am]

BILLING CODE 4160-18-P